DEPARTMENT OF AGRICULTURE

Office of the Secretary

Determination of Total Amounts of Fiscal Year 2013 Tariff-Rate Quotas for Raw Cane Sugar and Certain Sugars, Syrups and Molasses; and the Fiscal Year 2013 Overall Allotment Quantity Under the Sugar Marketing Allotment Program

AGENCY: Office of the Secretary, USDA.

ACTION: Notice.

SUMMARY: The Office of the Secretary of the Department of Agriculture announces the establishment of the Fiscal Year (FY) 2013 (October 1, 2012-September 30, 2013) in-quota aggregate quantity of the raw, as well as, refined and specialty sugar Tariff-Rate Quotas (TRQ). The FY 2013 raw cane sugar TRQ is established at 1,117,195 metric tons raw value (MTRV). In addition, the in-quota aggregate quantity of the refined and specialty sugar TRQ is established at 117,254 MTRV for certain sugars, syrups, and molasses (collectively referred to as refined sugar) that may be entered during FY 2013.

The Office of the Secretary of the Department of Agriculture also announces the establishment of the FY 2013 Overall Allotment Quantity (OAQ) at 9,711,250 short tons, raw value (STRV). As required by the Agricultural Adjustment Act of 1938, as amended, the sugar beet sector was allotted 5,278,064 STRV (54.35 percent of the OAQ), and the cane sugar sector was allotted 4,433,186 STRV (45.65 percent of the OAQ). CCC will distribute the sector allotments among domestic sugar beet and sugarcane processors according to the regulations in 7 CFR part 1435 in a press release before September 30, 2012.

DATES: Effective Date: September 10, 2012.

FOR FURTHER INFORMATION CONTACT: Souleymane Diaby, Import Policies and Export Reporting Division, Foreign Agricultural Service, Department of Agriculture, 1400 Independence Avenue SW., AgStop 1021, Washington, DC 20250-1021; by telephone (202) 720-2916; by fax (202) 720-0876; or by email souleymane.diaby@fas.usda.gov.

SUPPLEMENTARY INFORMATION: The provisions of paragraph (a)(i) of the Additional U.S. Note 5, Chapter 17 in the HTS authorize the Secretary of Agriculture to establish the in-quota TRQ amounts (expressed in terms of raw value) for imports of raw cane sugar and certain sugars, syrups, and molasses that may be entered under the subheadings of the HTS subject to the lower tier of duties of the TRQs for entry during each fiscal year. The Office of the U.S. Trade Representative (USTR) is responsible for the allocation of these quantities among supplying countries and areas.

Section 359(k) of the Agricultural Adjustment Act of 1938, as amended, requires that at the beginning of the quota year the Secretary of Agriculture establish the TRQs for raw cane sugar and refined sugars at the minimum levels necessary to comply with obligations under international trade agreements, with the exception of specialty sugar.

Notice is hereby given that I have determined, in accordance with paragraph (a)(i) of the Additional U.S. Note 5, Chapter 17 in the HTS and section 359(k) of the 1938 Act, that an aggregate quantity of up to 1,117,195 MTRV of raw cane sugar may be entered or withdrawn from warehouse for consumption during FY 2013. This is the minimum amount to which the United States is committed under the WTO Uruguay Round Agreements. I have further determined that an aggregate quantity of 117,254 MTRV of sugars, syrups, and molasses may be entered or withdrawn from warehouse for consumption during FY 2013. Of this quantity of 117,254 MTRV, the quantity of 96,910 MTRV is reserved for the importation of specialty sugars as defined by the USTR. The total of 117,254 MTRV includes the 22,000 MTRV minimum level necessary to comply with U.S. WTO Uruguay Round commitments, of which 1,656 MTRV is reserved for specialty sugar. Because the specialty sugar TRQ is first-come, first-served, tranches are needed to allow for orderly marketing throughout the year. The FY 2013 specialty sugar TRQ will be opened in five tranches. The first tranche, totaling 1,656 MTRV, will open October 12, 2012. All specialty sugars are eligible for entry under this tranche. The second tranche will open on October 26, 2012, and be equal to 35,245 MTRV. The remaining tranches will each be equal to 20,003 MTRV, with the third opening on January 11, 2013; the fourth, on April 11, 2013; and the fifth, on July 11, 2013. The second, third, fourth, and fifth tranches will be reserved for organic sugar and other specialty sugars not currently produced commercially in the United States or reasonably available from domestic sources.

Section 359c of the Agricultural Adjustment Act of 1938, as amended, requires that the OAQ be established at not less than 85 percent of the estimated quantity of sugar for domestic human consumption for the crop year, and that fixed percentages of the OAQ be assigned to the beet sector and cane sector. The OAQ for FY 2013 is being established at the minimum quantity of 9,711,250 STRV. Based on the required beet sector and cane sector percentages of 54.35 and 46.65 respectively, the sugar beet sector is allotted 5,278,064 STRV and cane sector is allotted 4,433,186 STRV for FY 2013.

The cane sector allotment is allocated to the sugarcane States according to provisions in the sugar program, as follows: Hawaii—245,499 STRV; Florida—2,250,786 STRV; Louisiana—1,741,236 and Texas—195,665 STRV. Company allocations will be announced in a press release before September 30, 2012.

* Conversion factor: 1 metric ton = 1.10231125 short tons.

Dated: August 24, 2012.
Michael T. Scuse,
Under Secretary, Farm and Foreign Agricultural Services.

[FR Doc. 2012-22134 Filed 9-7-12; 8:45 am]

BILLING CODE 3410-01-P